DEPARTMENT OF THE INTERIOR

Bureau of Reclamation

[RR83550000, 178R5065C6, RX.59389832.1009676]

Quarterly Status Report of Water Service, Repayment, and Other Water-Related Contract Actions

AGENCY: Bureau of Reclamation, Interior.

ACTION: Notice.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

M&I Municipal and Industrial

O&M Operation and Maintenance

OM&R Operation, maintenance, and replacement

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

1. Irrigation, M&I, and Miscellaneous Water Users; Idaho, Oregon, Washington, Montana, and Wyoming: Temporary or interim irrigation and M&I water service, water storage, water right settlement, exchange, miscellaneous use, or water replacement contracts to provide up to 10,000 acre-feet of water annually for terms up to 5 years; long-term contracts for similar service for up to 1,000 acre-feet of water annually.

2. Rogue River Basin Water Users, Rogue River Basin Project, Oregon: Water service contracts; $8 per acre-foot per annum.

3. Willamette Basin Water Users, Willamette Basin Project, Oregon: Water service contracts; $8 per acre-foot per annum.

4. Pioneer Ditch Company, Boise Project, Idaho; Clark and Edwards Canal and Irrigation Company, Enterprise Canal Company, Ltd., Lenroot Canal Company, Liberty Park Canal Company, Poplar ID, all in the Minidoka Project, Idaho; and Juniper Flat District Improvement Company, Wapinitia Project, Oregon: Amendatory repayment and water service contracts; purpose is to conform to the RRA.

5. Nine water user entities of the Arrowrock Division, Boise Project, Idaho: Repayment agreements with districts with spaceholder contracts for repayment, per legislation, of the reimbursable share of costs to rehabilitate Arrowrock Dam Outlet Gates under the O&M program.

6. Three irrigation water user entities, Rogue River Basin Project, Oregon: Long-term contracts for exchange of water service with three entities for the provision of up to 292 acre-feet of stored water from Applegate Reservoir (a USACE project) for irrigation use in exchange for the transfer of out-of-stream water rights from the Little Applegate River to instream flow rights with the State of Oregon for instream flow use.

7. Conagra Foods Lamb Weston, Inc., Columbia Basin Project, Washington: Miscellaneous purposes water service contract providing for the delivery of up to 1,500 acre-feet of water from the Scooteney Wasteway for effluent management.

8. Benton ID, Yakima Project, Washington: Replacement contract to, among other things, withdraw the District from the Sunnyside Division Board of Control; provide for direct payment of the District's share of total operation, maintenance, repair, and replacement costs incurred by the United States in operation of storage division; and establish District responsibility for operation, maintenance, repair, and replacement for irrigation distribution system.

9. City of Prineville and Ochoco ID, Crooked River Project, Oregon: Long-term contract to provide the City of Prineville with a mitigation water supply from Prineville Reservoir; with Ochoco ID anticipated to be a party to the contract, as they are responsible for O&M of the dam and reservoir.

10. Burley and Minidoka IDs, Minidoka Project, Idaho: Supplemental and amendatory contracts to transfer the O&M of the Main South Side Canal Headworks to Burley ID and transfer the O&M of the Main North Side Canal Headworks to the Minidoka ID.

11. Clean Water Services and Tualatin Valley ID, Tualatin Project, Oregon: Long-term water service contract that provides for the District to allow Clean Water Services to beneficially use up to 6,000 acre-feet annually of stored water for water quality improvement.

12. Willow Creek District Improvement Company, Willow Creek Project, Oregon: Amend to increase the amount of storage water made available under the existing long-term contract from 2,500 to 3,500 acre-feet.

13. East Columbia Basin ID, Columbia Basin Project, Washington: Amendment of renewal master water service contract, contract No. 159E101882, to authorize up to an additional 70,000 acres within the District that are located within the Odessa Subarea and eligible to participate in the Odessa Groundwater Replacement Program, to receive Columbia Basin Project irrigation water service.

14. Talent, Medford, and Rogue River Valley IDs; Rogue River Basin Project; Oregon: Contracts for repayment of reimbursable shares of SOD program modifications for Hyatt Dam.

15. Stanfield ID, Umatilla Basin Project, Oregon: A long-term water service contract to provide for the use of conjunctive use water, if needed, for the purposes of pre-saturation or failure of District diversion facilities.

16. Yakama Nation and Cascade ID, Yakima Project, Washington: Long-term contract for an exchange of water and to authorize the use of capacity in Yakima Project facilities to convey up to 10 cubic feet per second of nonproject water during the non-irrigation season for fish hatchery purposes.

Mid-Pacific Region: Bureau of Reclamation, 2800 Cottage Way, Sacramento, California 95825-1898, telephone 916-978-5250.

1. Irrigation water districts, individual irrigators, M&I and miscellaneous water users; California, Nevada, and Oregon: Temporary (interim) water service contracts for available project water for irrigation, M&I, or fish and wildlife purposes providing up to 10,000 acre-feet of water annually for terms up to 5 years; temporary Warren Act contracts for use of excess capacity in project facilities for terms up to 5 years; temporary conveyance agreements with the State of California for various purposes; long-term contracts for similar service for up to 1,000 acre-feet annually.

2. Contractors from the American River Division, Delta Division, Cross Valley Canal, San Felipe Division, West San Joaquin Division, San Luis Unit, and Elk Creek Community Services District; CVP; California: Renewal of 30 interim and long-term water service contracts; water quantities for these contracts total in excess of 2.1M acre-feet. These contract actions will be accomplished through long-term renewal contracts pursuant to Public Law 102-575. Prior to completion of negotiation of long-term renewal contracts, existing interim renewal water service contracts may be renewed through successive interim renewal of contracts.

3. Redwood Valley County WD, SRPA, California: Restructuring the repayment schedule pursuant to Public Law 100-516.

4. El Dorado County Water Agency, CVP, California: M&I water service contract to supplement existing water supply. Contract will provide for an amount not to exceed 15,000 acre-feet annually authorized by Public Law 101-514 (Section 206) for El Dorado County Water Agency. The supply will be subcontracted to El Dorado ID and Georgetown Divide Public Utility District.

5. Sutter Extension WD, Delano-Earlimart ID, Pixley ID, the State of California Department of Water Resources, and the State of California Department of Fish and Wildlife; CVP; California: Pursuant to Public Law 102-575, agreements with non-Federal entities for the purpose of providing funding for CVPIA refuge water conveyance and/or facilities improvement construction to deliver water for certain Federal wildlife refuges, State wildlife areas, and private wetlands.

6. CVP Service Area, California: Temporary water acquisition agreements for purchase of 5,000 to 200,000 acre-feet of water for fish and wildlife purposes as authorized by Public Law 102-575 for terms of up to 5 years.

7. Horsefly, Klamath, Langell Valley, and Tulelake IDs; Klamath Project; Oregon: Repayment contracts for SOD work on Clear Lake Dam. These districts will share in repayment of costs, and each district will have a separate contract.

8. Casitas Municipal WD, Ventura Project, California: Repayment contract for SOD work on Casitas Dam.

9. Warren Act Contracts, CVP, California: Execution of long-term Warren Act contracts (up to 40 years) with various entities for conveyance of nonproject water in the CVP.

10. Tuolumne Utilities District (formerly Tuolumne Regional WD), CVP, California: Long-term water service contract for up to 9,000 acre-feet from New Melones Reservoir, and possibly a long-term contract for storage of nonproject water in New Melones Reservoir.

11. Madera-Chowchilla Water and Power Authority, CVP, California: Agreement to transfer the OM&R and certain financial and administrative activities related to the Madera Canal and associated works.

12. Sacramento Suburban WD, CVP, California: Execution of a long-term Warren Act contract for conveyance of 29,000 acre-feet of nonproject water. The contract will allow CVP facilities to be used to deliver nonproject water provided from the Placer County Water Agency to the District for use within its service area.

13. Town of Fernley, State of California, City of Reno, City of Sparks, Washoe County, State of Nevada, Truckee-Carson ID, and any other local interest or Native American Tribal Interest who may have negotiated rights under Public Law 101-618; Nevada and California: Contract for the storage of non-Federal water in Truckee River reservoirs as authorized by Public Law 101-618 and the Preliminary Settlement Agreement. The contracts shall be consistent with the Truckee River Water Quality Settlement Agreement and the terms and conditions of the Truckee River Operating Agreement.

14. Delta Lands Reclamation District No. 770, CVP, California: Long-term Warren Act contract for conveyance of up to 300,000 acre-feet of nonproject flood flows via the Friant-Kern Canal for flood control purposes.

15. Pershing County Water Conservation District, Pershing County, and Lander County; Humboldt Project; Nevada: Title transfer of lands and features of the Humboldt Project.

16. Mendota Wildlife Area, CVP, California: Reimbursement agreement between the California Department of Fish and Wildlife and Reclamation for conveyance service costs to deliver Level 2 water to the Mendota Wildlife Area during infrequent periods when the Mendota Pool is down due to unexpected but needed maintenance. This action is taken pursuant to Public Law 102-575, Title 34, Section 3406(d)(1), to meet full Level 2 water needs of the Mendota Wildlife Area.

17. San Luis WD, CVP, California: Proposed partial assignment of 2,400 acre-feet of the District's CVP supply to Santa Nella County WD for M&I use.

18. Placer County Water Agency, CVP, California: Proposed exchange agreement under section 14 of the 1939 Act to exchange up to 71,000 acre-feet annually of the Agency's American River Middle Fork Project water for use by Reclamation, for a like amount of CVP water from the Sacramento River for use by the Agency.

19. Irrigation Contractors, Klamath Project, Oregon: Amendment of repayment contracts or negotiation of new contracts to allow for recovery of additional capital costs.

20. Orland Unit Water User's Association, Orland Project, California: Repayment contract for the SOD costs assigned to the irrigation of Stony Gorge Dam.

21. Goleta WD, Cachuma Project, California: An agreement to transfer title of the federally owned distribution system to the District subject to approved legislation.

22. City of Santa Barbara, Cachuma Project, California: Execution of a temporary contract and a long-term Warren Act contract with the City for conveyance of nonproject water in Cachuma Project facilities.

23. Water user entities responsible for payment of O&M costs for Reclamation projects in California, Nevada, and Oregon: Contracts for extraordinary maintenance and replacement funded pursuant to ARRA. Added costs to rates to be collected under irrigation and interim M&I ratesetting policies.

24. Water user entities responsible for payment of O&M costs for Reclamation projects in California, Nevada, and Oregon: Contracts for extraordinary maintenance and replacement funded pursuant to Subtitle G of Public Law 111-11.

25. Cachuma Operation and Maintenance Board, Cachuma Project, California: Amendment to SOD contract No. 01-WC-20-2030 to provide for increased SOD costs associated with Bradbury Dam.

26. Reclamation will become signatory to a three-party conveyance agreement with the Cross Valley Contractors and the California State Department of Water Resources for conveyance of Cross Valley Contractors' CVP water supplies that are made available pursuant to long-term water service contracts.

27. Westlands WD, CVP, California: Negotiation and execution of a long-term repayment contract to provide reimbursement of costs related to the construction of drainage facilities. This action is being undertaken to satisfy the Federal Government's obligation to provide drainage service to Westlands located within the San Luis Unit of the CVP.

28. San Luis WD, Meyers Farms Family Trust, and Reclamation; CVP; California: Revision of an existing contract between San Luis WD, Meyers Farms Family Trust, and Reclamation providing for an increase in the exchange of water from 6,316 to 10,526 acre-feet annually and an increase in the storage capacity of the bank to 60,000 acre-feet.

29. San Joaquin Valley National Cemetery, U.S. Department of Veteran Affairs; Delta Division, CVP; California: Negotiation of a multi-year wheeling agreement with a retroactive effective date of 2011 is pending. A wheeling agreement with the State of California Department of Water Resources provides for the conveyance and delivery of CVP water through the State of California's water project facilities to the San Joaquin Valley National Cemetery.

30. Byron-Bethany ID, CVP, California: Negotiation of a multi-year wheeling agreement with a retroactive effective date is pending. A wheeling agreement with the State of California Department of Water Resources provides for the conveyance and delivery of CVP water through the State of California's water project facilities, to the Musco Family Olive Company, a customer of Byron-Bethany ID.

31. Contra Costa WD, CVP, California: Amendment to an existing O&M agreement to transfer O&M of the Contra Costa Rock Slough Fish Screen to the District. Initial construction funding provided through ARRA.

32. Irrigation water districts, individual irrigators and M&I water users, CVP, California: Temporary water service contracts for terms not to exceed 1 year for up to 100,000 acre-feet of surplus supplies of CVP water resulting from an unusually large water supply, not otherwise storable for project purposes, or from infrequent and otherwise unmanaged flood flows of short duration.

33. Irrigation water districts, individual irrigators, M&I and miscellaneous water users, CVP, California: Temporary Warren Act contracts for terms up to 5 years providing for use of excess capacity in CVP facilities for annual quantities exceeding 10,000 acre-feet.

34. City of Redding, CVP, California: Proposed partial assignment of 30 acre-feet of the City of Redding's CVP water supply to the City of Shasta Lake for M&I use.

35. Langell Valley ID, Klamath Project; Oregon: Title transfer of lands and facilities of the Klamath Project.

36. Sacramento River Division, CVP, California: Administrative assignments of various Sacramento River Settlement Contracts.

37. California Department of Fish and Game, CVP, California: To extend the term of and amend the existing water service contract for the Department's San Joaquin Fish Hatchery to allow an increase from 35 to 60 cubic feet per second of continuous flow to pass through the Hatchery prior to it returning to the San Joaquin River.

38. Orland Unit Water User's Association, Orland Project, California: Title transfer of lands and features of the Orland Project.

39. Santa Clara Valley WD, CVP, California: Second amendment to Santa Clara Valley WD's water service contract to add CVP-wide form of contract language providing for mutually agreed upon point or points of delivery.

40. PacifiCorp, Klamath Project, Oregon and California: Transfer of O&M of Link River Dam and associated facilities. Contract will allow for the continued O&M by PacifiCorp.

41. Tulelake ID, Klamath Project, Oregon and California: Transfer of O&M of Station 48 and gate on Drain No. 1, Lost River Diversion Channel.

42. Fresno County Waterworks No. 18; Friant Division, CVP; California: Execution of an agreement to provide for the O&M of select Federal facilities by Fresno County Waterworks No. 18.

43. U.S. Fish and Wildlife Service, Tulelake ID; Klamath Project; Oregon and California: Water service contract for deliveries to Lower Klamath National Wildlife Refuge, including transfer of O&M responsibilities for the P Canal system.

44. Tulelake ID, Klamath Project, Oregon and California: Amendment of repayment contract to eliminate reimbursement for P Canal O&M costs.

45. East Bay Municipal Utility District, CVP, California: Long-term Warren Act contract for storage and conveyance of up to 47,000 acre-feet annually.

46. Sacramento County Water Agency, CVP, California: Assignment of 7,000 acre-feet of CVP water to the City of Folsom.

47. Gray Lodge Wildlife Area, CVP, California: Reimbursement agreement between the California Department of Fish and Wildlife and Reclamation for groundwater pumping costs. Groundwater will provide a portion of Gray Lodge Wildlife Area's CVPIA Level 4 water supplies. This action is taken pursuant to Public Law 102-575, Title 34, Section 3406(d)(1, 2 and 5), to meet full Level 4 water needs of the Gray Lodge Wildlife Area.

48. State of Nevada, Newlands Project, Nevada: Title transfer of lands and features of the Carson Lake and Pasture.

49. Washoe County Water Conservation District, Truckee Storage Project, Nevada: Repayment contract for costs associated with SOD work on Boca Dam.

Completed contract action:

1. (48) Del Puerto WD, CVP, California: Long-term Warren Act contract, not to exceed 40 years, for annual storage and conveyance of up to 60,000 acre-feet of recycled water from the cities of Turlock and Modesto. This nonproject water will be stored in the San Luis Reservoir and conveyed through the Delta-Mendota Canal to agricultural lands and wildlife refuges. Contract executed on August 12, 2016.

Lower Colorado Region: Bureau of Reclamation, P.O. Box 61470 (Nevada Highway and Park Street), Boulder City, Nevada 89006-1470, telephone 702-293-8192.

1. Milton and Jean Phillips, BCP, Arizona: Develop a Colorado River water delivery contract for 60 acre-feet of Colorado River water per year as recommended by the Arizona Department of Water Resources.

2. Gila Project Works, Gila Project, Arizona: Perform title transfer of facilities and certain lands in the Wellton-Mohawk Division from the United States to the Wellton-Mohawk IDD.

3. Sherrill Ventures, LLLP and Green Acres Mohave, LLC; BCP; Arizona: Draft contracts for PPR No. 14 for 1,080 acre-feet of water per year as follows: Sherrill Ventures, LLLP, a draft contract for 954.3 acre-feet per year and Green Acres Mohave, LLC, a draft contract for 125.7 acre-feet per year.

4. San Carlos Apache Tribe and the Town of Gilbert, CAP, Arizona: Proposed 100-year lease not to exceed 5,925 acre-feet per year of CAP water from the Tribe to Gilbert.

5. Bard WD, Yuma Project, California: Supersede and replace the District's O&M contract for the Yuma Project, California, Reservation Division, Indian Unit, to reflect that appropriated funds are no longer available, and to specify an alternate process for transfer of funds. In addition, other miscellaneous processes required for Reclamation's contractual administration and oversight will be updated to ensure the Federal Indian Trust obligation for reservation water and land are met.

6. Metropolitan Water District of Southern California, San Diego County Water Authority, and Otay WD; BCP; California: Execute a proposed amendment No. 2 to extend the “Agreement for Temporary Emergency Delivery of a Portion of the Mexican Treaty Waters of the Colorado River to the International Boundary in the Vicinity of Tijuana, Baja California, Mexico, and the Operation of Facilities in the United States” until November 9, 2019.

7. Central Arizona Water Conservation District, CAP, Arizona: Negotiate a standard form of wheeling agreement for the wheeling of nonproject water (CAP System Use Agreement), in accordance with the District's existing contract.

8. Ogram Farms, BCP, Arizona: Assign the contract to the new landowners and revise Exhibit A of the contract to change the contract service area and points of diversion/delivery.

9. Ogram Boys Enterprises, Inc., BCP, Arizona: Revise Exhibit A of the contract to change the contract service area and points of diversion/delivery.

10. Reclamation, Davis Dam (Davis Dam), and Big Bend WD; BCP; Arizona and Nevada: Enter into proposed “Agreement for the Diversion, Treatment, and Delivery of Colorado River Water” in order for the District to divert, treat, and deliver to Davis Dam the Davis Dam Secretarial Reservation amount of up to 100 acre-feet per year of Colorado River water.

11. Reclamation, Arizona Department of Water Resources, Arizona Water Banking Authority, Central Arizona Water Conservation District, Southern Nevada Water Authority, and The Metropolitan Water District of Southern California; BCP; Arizona, California and Nevada: Begin negotiations to enter into proposed “Storage and Interstate Release Agreement(s)” for creation, offstream storage, and release of unused basic or surplus Colorado River apportionment within the lower division states pursuant to 43 CFR part 414.

12. Imperial ID, Lower Colorado River Water Supply Project, California: Develop an agreement between Reclamation and Imperial ID for the funding of design, construction, and installation of power facilities for the Project.

13. San Carlos Apache Tribe and the Pascua Yaqui Tribe, CAP, Arizona: Execute a CAP water lease in order for the San Carlos Apache Tribe to lease 2,230 acre-feet of its CAP water to the Pascua Yaqui Tribe during calendar year 2017.

14. City of Yuma, BCP, Arizona: Long-term consolidated contract with the City for delivery of its Colorado River water entitlement.

15. Imperial ID, BCP, California: Approve an assignment of 155 cubic feet per second of capacity in the All-American Canal and all obligations associated therewith to the District from the City of San Diego.

16. Valencia Water Company and the City of Buckeye, CAP, Arizona: Execute a proposed assignment to the City of Buckeye of Valencia Water Company's 43 acre-foot annual CAP M&I water entitlement. This proposed action will increase the City of Buckeye's final 2034 entitlement to 68 acre-feet per annum and will eliminate Valencia Water Company's entitlement.

17. Fort McDowell Yavapai Nation and the Town of Gilbert, CAP, Arizona: Execute amendment No. 5 to a CAP water lease to extend the term of the lease in order for the Fort McDowell Yavapai Nation to lease 13,933 acre-feet of its CAP water to the Town of Gilbert during calendar year 2017.

18. San Carlos Apache Tribe and the Town of Gilbert, CAP, Arizona: Execute amendment No. 6 to a CAP water lease to extend the term of the lease in order for the San Carlos Apache Tribe to lease 29,341 acre-feet of its CAP water to the Town of Gilbert during calendar year 2017.

19. Cibola Valley IDD and Western Water, LLC, BCP, Arizona: Execute a proposed partial assignment of fourth priority Colorado River water in the amount of 681.48 acre-feet per year from the District to Western Water, LLC and a new Colorado River water delivery contract with Western Water, LLC.

Completed contract actions:

1. (22) Mohave County Water Authority, BCP, Arizona: Amend Exhibit B to the Authority's Colorado River water delivery contract to update the annual diversion amounts to be used within the contract service areas. Contract executed on October 5, 2016.

2. (23) City of Chandler and the Gila River Indian Community, CAP, Arizona: Approve a CAP water lease for the Community to lease 2,450 acre-feet per year of its CAP water to Chandler for 100 years. (The United States is not a party to this lease agreement, but must approve the lease agreement pursuant to the Arizona Water Settlements Act and the Community's amended CAP water delivery contract.) Contract executed on November 4, 2016.

3. (24) City of Chandler and the Gila River Indian Community, CAP, Arizona: Approve a reclaimed water exchange agreement beginning January 1, 2019, for 50 years. The Agreement will allow for the exchange of Chandler reclaimed water for Community CAP water. The Community will accept delivery of up to 4,225 acre-feet per year of Chandler reclaimed water, in exchange for up to 3,380 acre-feet of Community CAP water. (The United States is not a party to this agreement, but must approve the agreement pursuant to the Arizona Water Settlements Act.) Contract executed on November 4, 2016.

4. (25) Avra Water Co-op, Inc. and the Town of Marana, CAP, Arizona: Execute a proposed assignment to the Town of Marana of Avra Water Co-op's 808 acre-foot annual CAP M&I water entitlement. This proposed action will increase the Town of Marana's entitlement to 2,336 acre-feet per annum and will eliminate Avra Water Co-op's entitlement. Contract executed on November 3, 2016.

Upper Colorado Region: Bureau of Reclamation, 125 South State Street, Room 8100, Salt Lake City, Utah 84138-1102, telephone 801-524-3864.

1. Individual irrigators, M&I, and miscellaneous water users; Initial Units, CRSP; Utah, Wyoming, Colorado, and New Mexico: Temporary (interim) water service contracts for surplus project water for irrigation or M&I use to provide up to 10,000 acre-feet of water annually for terms up to 10 years; long-term contracts for similar service for up to 1,000 acre-feet of water annually.

2. Contracts with various water user entities responsible for payment of O&M costs for Reclamation projects in Arizona, Colorado, New Mexico, Texas, Utah, and Wyoming: Contracts for extraordinary maintenance and replacement funded pursuant to Subtitle G of Public Law 111-11 to be executed as project progresses.

3. Middle Rio Grande Project, New Mexico: Reclamation continues annual leasing of water from various San Juan-Chama Project contractors to stabilize flows in a critical reach of the Rio Grande in order to meet the needs of irrigators and preserve habitat for the silvery minnow. Reclamation leased approximately 14,156 acre-feet of water from San Juan-Chama Project contractors in 2016.

4. Bridger Valley Water Conservancy District, Lyman Project, Wyoming: The District has requested that its Meeks Cabin repayment contract be amended from two 25-year contacts to one 40-year contract.

5. Ephraim Irrigation Company, Sanpete Project, Utah: The Company proposes to enclose the Ephraim Tunnel with a 54-inch pipe. A supplemental O&M agreement will be necessary to obtain the authorization to modify Federal facilities.

6. Weber Basin Water Conservancy District, Weber Basin Project, Utah: The District has requested a contract to allow the storage of Weber Basin Project water in Smith Morehouse Reservoir under the authority of Section 14 of the Reclamation Projects Act of 1939.

7. Carbon Water Conservancy District, Scofield Project, Utah: The District has requested Reclamation's assistance with O&M activities to rehabilitate certain portions of the Scofield Dam outlet works and surrounding area.

8. Eden Valley IDD, Eden Project, Wyoming: The District proposes to raise the level of Big Sandy Dam to fully perfect its water rights. A supplemental O&M agreement will be necessary to obtain the authorization to modify Federal facilities.

9. Uintah Water Conservancy District; Vernal Unit, CUP; Utah: The District desires to pipe the Steinaker Service Canal to improve public safety, decrease O&M costs, and increase water efficiency. This action will require a supplementary O&M contract to modify Federal Reclamation facilities, as well as an agreement written under the authority of the Civil Sundry Appropriations Act of 1921 for Reclamation to accept funds to review designs, inspect project construction, and any other activities requiring Reclamation's participation.

10. Newton Water Users Association, Newton Project; Utah: The Association desires to abandon the Federal canals distributing water from Newton Reservoir and replace them with a private pipeline. This requires a supplementary O&M agreement to approve modification to Federal Reclamation facilities and outline the O&M responsibilities during and after construction.

11. Newton Water Users Association, Newton Project; Utah: The Utah Division of Wildlife Resources desires to install a fish screen on the outlet works of Newton Dam. This requires a supplementary O&M agreement to approve modification to Federal Reclamation facilities.

12. Salem Canal and Irrigation Company, Strawberry Valley Project, Utah: The United States intends to enter into an amendatory contract regarding possible lost generation of power revenues generated at the Spanish Fork Power Plant on the Strawberry Valley Project.

13. Weber Basin Water Conservancy District, A.V. Watkins Dam, Utah: The United States intends to enter into an implementation agreement with the District giving the District the authority to modify Federal facilities to raise the crest of A.V. Watkins Dam.

14. Strawberry High Line Canal Company, Strawberry Valley Project; Utah: The Strawberry High Line Canal Company has requested a conversion of up to 20,000 acre-feet of irrigation water to be allowed for miscellaneous use.

15. Uintah Water Conservancy District; Flaming Gorge Unit, CRSP; Utah: The District has requested a long-term water service contract to remove up to 5,500 acre-feet of water annually from the Green River for irrigation purposes under the authority of Section 9(e) of the Reclamation Project Act of 1939. A short-term contract may be executed until a long-term contract can be completed.

16. South Cache Water Users Association, Hyrum Project, Utah: A new spillway is being investigated as of a SOD fix. This will require a repayment contract for the reimbursable costs.

17. Emery County Water Conservancy District, Emery County Project, Utah: The District has requested to convert 79 acre-feet of Cottonwood Creek Consolidated Irrigation Company water from irrigation to M&I uses.

18. Uintah Water Conservancy District; Vernal Unit, CUP; Utah: Due to sloughing on the face of Steinaker Dam north of Vernal, Utah, a SOD fix authorized under the SOD Act of 1978 may be necessary to perform the various functions needed to bring Steinaker Reservoir back to full capacity. This will require a repayment contract with the United States.

19. Salt River Project Agricultural Improvement and Power District, Salt River Project; Glen Canyon Unit, CRSP; Arizona: The District has requested an extension of its existing contract from 2034 through 2044. This action is awaiting further development by the District.

20. Dolores Water Conservancy District, Dolores Project, Colorado: The District has requested a water service contract for 1,402 acre-feet of newly identified project water for irrigation. The proposed water service contract will provide 417 acre-feet of project water for irrigation of the Ute Enterprise and 985 acre-feet for use by the District's full-service irrigators.

21. City of Page, Arizona; Glen Canyon Unit, CRSP; Arizona: Long-term contract for 975 acre-feet of water for municipal purposes.

22. Florida Water Conservancy District, Florida Project, Colorado: The District and the United States, pursuant to Section 4 of the CRSP, and subsection 9(c)(2) of the Reclamation Projects Act of 1939, propose to negotiate and execute a water service contract for 2,500 acre-feet of Florida Project water for M&I and other miscellaneous beneficial uses, other than commercial agricultural irrigation, within the District boundaries in La Plata County, Colorado.

23. Utah Division of State Parks, Utah: Requested an early renewal of its 11 State Parks Agreements for recreation management at various Reclamation Reservoirs.

24. State of Wyoming, Seedskadee Project; Wyoming: The Wyoming Water Development Commission is interested in purchasing an additional 65,000 acre-feet of M&I water from Fontenelle Reservoir.

25. Ute Indian Tribe of the Uinta and Ouray Reservation, CUP, Utah: The Ute Indian Tribe of the Uinta and Ouray Reservation, Utah, has requested the use of excess capacity in the Strawberry Aqueduct and Collection System, as authorized in the Central Utah Project Completion Act legislation.

26. Ute Indian Tribe of the Uinta and Ouray Reservation; Flaming Gorge Unit, CRSP; Utah: As part of discussions on settlement of a potential compact, the Ute Indian Tribe of the Uinta and Ouray Reservation, Utah, has indicated interest in storage of its potential water right in Flaming Gorge Reservoir.

27. State of Utah; Flaming Gorge Unit, CRSP; Utah: The State of Utah has requested contracts (likely an exchange contracts) that would allow the full development and use of the Central Utah Project Ultimate Phase water right which was previously assigned to the State of Utah. The water right involves 158,000 acre-feet of depletion, of which 86,000 acre-feet is for the State of Utah's proposed Lake Powell Pipeline Project.

28. Weber Basin Water Conservancy District, Weber Basin Project, Utah: The District has requested permission to install a low-flow hydro-electric generation plant at Causey Reservoir to take advantage of winter releases. This will likely be accomplished through a supplemental O&M contract.

29. Central Utah Water Conservancy District; Bonneville Unit, CUP; Utah: The District has received a request to convert 300 acre-feet of irrigation water in Wasatch County to M&I purposes. This will require an amended block notice.

30. Provo River Restoration Project, Utah: The Utah Reclamation Mitigation and Conservation Commission is amending agreement No. 9-LM-40-01410 to include additional acreage in the boundaries of the Provo River Restoration Project.

31. East Wanship Irrigation Company, Weber Basin Project, Utah: The Company has requested a supplemental O&M agreement to modify the Federal facilities below Wanship Dam to install a pipe from its current point of delivery to the end of the Primary Jurisdiction Zone.

32. Mancos Water Conservancy District, Mancos Project, Colorado: Proposed preliminary lease and funding agreement for preliminary work associated with potential lease of power privilege.

33. Mancos Water Conservancy District, Mancos Project, Colorado: Proposed funding agreement for preliminary work associated with the evaluation of title transfer.

34. North Fork Water Conservancy District and Ragged Mountain Water Users Association, Paonia Project, Colorado: An existing contract for 2,000 acre-feet expired on December 31, 2016. The parties have requested a 5-year contract that will begin when the existing contract expired. The new contract will be for up to 2,000 acre-feet of water for irrigation and M&I uses. Up to 200 acre-feet will be available for M&I uses.

35. VBC Owners Association; Aspinall Unit, CRSP; Colorado: The association has requested a long-term water service contract for 8 acre-feet of water out of the Aspinall Unit, CRSP.

36. Collbran Water Conservancy District, Collbran Project, Colorado: The District has requested an exchange contract with William Morse for exchange of water on the Collbran Project.

37. Ute Mountain Ute Tribe, Animas-La Plata Project, Colorado: Ute Mountain Ute Tribe, has requested a water delivery contract for 33,519 acre-feet of M&I water; contract terms to be consistent with the Colorado Ute Settlement Act Amendments of 2000 (Title III of Pub. L. 106-554).

38. Navajo-Gallup Water Supply Project, New Mexico: Reclamation continues negotiations on an OM&R transfer contract with the Navajo Tribal Utility Authority pursuant to Public Law 111-11, Section 10602(f) which transfers responsibilities to carry out the OM&R of transferred works of the Project; ensures the continuation of the intended benefits of the Project; distribution of water; and sets forth the allocation and payment of annual OM&R costs of the Project.

39. Florida Water Conservancy District, Florida Project, Colorado: The United States and the District, pursuant to Section 4 of the CRSP, and subsection 9(c)(2) of the Reclamation Projects Act of 1939, propose to execute a water service contract for 2,500 acre-feet of Florida Project water for M&I and other miscellaneous beneficial uses, other than commercial agricultural irrigation, within the District boundaries in La Plata County, Colorado.

40. Animas-La Plata Project, Colorado-New Mexico: (a) Navajo Nation title transfer agreement for the Navajo Nation Municipal Pipeline for facilities and land outside the corporate boundaries of the City of Farmington, New Mexico; contract terms to be consistent with the Colorado Ute Settlement Act Amendments of 2000 (Title III of Pub. L. 106-554) and the Northwestern New Mexico Rural Water Projects Act (Title X of Pub. L. 111-11); (b) City of Farmington, New Mexico, title transfer agreement for the Navajo Nation Municipal Pipeline for facilities and land inside the corporate boundaries of the City of Farmington; New Mexico, contract terms to be consistent with the Colorado Ute Settlement Act Amendments of 2000 (Title III of Pub. L. 106-554) and the Northwestern New Mexico Rural Water Projects Act (Title X of Pub. L. 111-11); and (c) Operations agreement among the United States, Navajo Nation, and City of Farmington for the Navajo Nation Municipal Pipeline pursuant to Public Law 111-11, Section 10605(b)(1) that sets forth any terms and conditions that secures an operations protocol for the M&I water supply.

Completed contract action:

1. (36) Sweetwater County; Flaming Gorge Unit, CRSP; Wyoming: Sweetwater County has requested a water service contract for 1 acre-foot of M&I water annually from Flaming Gorge Reservoir. Contract executed on September 22, 2016.

Great Plains Region: Bureau of Reclamation, P.O. Box 36900, Federal Building, 2021 4th Avenue North, Billings, Montana 59101, telephone 406-247-7752.

1. Irrigation, M&I, and miscellaneous water users; Colorado, Kansas, Montana, Nebraska, North Dakota, Oklahoma, South Dakota, Texas, and Wyoming: Water service contracts for the sale, conveyance, storage, and exchange of surplus project water and nonproject water for irrigation or M&I use to provide up to 10,000 acre-feet of water annually for a term of up to 1 year, or up to 1,000 acre-feet of water annually for a term of up to 40 years.

2. Water user entities responsible for payment of O&M costs for Reclamation projects in Colorado, Kansas, Montana, Nebraska, North Dakota, Oklahoma, South Dakota, Texas, and Wyoming: Contracts for extraordinary maintenance and replacement funded pursuant to Subtitle G of Public Law 111-11.

3. Green Mountain Reservoir, Colorado-Big Thompson Project, Colorado: Water service contracts for irrigation and M&I; contracts for the sale of water from the marketable yield to water users within the Colorado River Basin of western Colorado.

4. Garrison Diversion Conservancy District, Garrison Diversion Unit, P-SMBP, North Dakota: Intent to modify long-term water service contract to add additional irrigated acres.

5. Fryingpan-Arkansas Project, Colorado: Consideration of excess capacity contracting in the Fryingpan-Arkansas Project.

6. Colorado-Big Thompson Project, Colorado: Consideration of excess capacity contracting in the Colorado-Big Thompson Project.

7. Northern Integrated Supply Project, Colorado-Big Thompson Project, Colorado: Consideration of a new long-term contract with approximately 15 regional water suppliers and the Northern Colorado Water Conservancy District for the Northern Integrated Supply Project.

8. Roger W. Evans (Individual); Boysen Unit, P-SMBP; Wyoming: Renewal of long-term water service contract.

9. Busk-Ivanhoe, Inc., Fryingpan-Arkansas Project, Colorado: Contract for long-term carriage and storage, and/or a new contract for an additional use of water.

10. Southeastern Water Conservancy District, Fryingpan-Arkansas Project, Colorado: Consideration of an excess capacity master storage contract.

11. State of Kansas Department of Wildlife and Parks; Glen Elder Unit, P-SMBP; Kansas: Intent to enter into a contract for the remaining conservation storage in Waconda Lake for recreation and fish and wildlife purposes.

12. Arkansas Valley Conduit, Fryingpan-Arkansas Project, Colorado: Consideration of a repayment contract for the Arkansas Valley Conduit.

13. Northern Colorado Water Conservancy District, Colorado-Big Thompson Project, Colorado: Amend or supplement the 1938 repayment contract to include the transfer of OM&R for Carter Lake Dam Additional Outlet Works and Flatiron Power Plant Bypass facilities.

14. Van Amundson; Jamestown Reservoir, Garrison Diversion Unit, P-SMBP; North Dakota: Intent to enter into an individual long-term irrigation water service contract to provide up to 285 acre-feet of water annually for a term of up to 40 years from Jamestown Reservoir, North Dakota.

15. Donala Water and Sanitation District, Fryingpan-Arkansas Project, Colorado: Consideration of a long-term excess capacity contract.

16. Purgatoire Water Conservancy District, Trinidad Project, Colorado: Consideration of a request to amend the contract.

17. Central Oklahoma Master Conservancy District, Norman Project, Oklahoma: Amend existing contract No. 14-06-500-590 to execute a separate contract(s) to allow for importation and storage of nonproject water in accordance with the Lake Thunderbird Efficient Use Act of 2012.

18. Midvale ID; Riverton Unit, P-SMBP; Wyoming: Consideration of a contract with the District for repayment of SOD costs at Bull Lake Dam.

19. Mirage Flats ID, Mirage Flats Project, Nebraska: Consideration of a contract action for repayment of SOD costs.

20. Tom Green County Water Control and Improvement District No. 1, San Angelo Project, Texas: Consideration of a potential contract(s) for use of excess capacity by individual landowner(s) for irrigation purposes.

21. Western Heart River ID; Heart Butte Unit, P-SMBP; North Dakota: Consideration of amending the long-term irrigation repayment contract and project-use power contract to include additional acres.

22. Dickinson-Heart River Mutual Aid Corporation; Dickinson Unit, Heart Division; P-SMBP; North Dakota: Consideration of amending the long-term irrigation water service contract to modify the acres irrigated.

23. Buford-Trenton ID, Buford-Trenton Project, P-SMBP; North Dakota: Consideration of amending the long-term irrigation power repayment contract and project-use power contract to include additional acres.

24. Bostwick Division, P-SMBP: Excess capacity contract with the State of Nebraska and/or State of Kansas entities and/or irrigation districts.

25. Milk River Project, Montana: Proposed amendment to contracts to reflect current landownership.

26. Glen Elder ID No. 8; Glen Elder Unit, P-SMBP; Kansas: Consideration to renew long-term water service contract No. 2-07-60-W0855.

27. Central Oklahoma Master Conservancy District, Norman Project, Oklahoma: Consideration of a contract for a supply of water made possible when infrequent and otherwise unmanageable flood flows of short duration create a temporary supply of water.

28. Avalanche ID; Canyon Ferry Unit, P-SMBP; Montana: Proposal to negotiate, execute, and administer a long-term water service contract to irrigate up to 11,000 acres of land with water from Canyon Ferry Reservoir.

29. Oxbow Ranch; Canyon Ferry Unit, P-SMBP; Montana: Proposal to negotiate, execute, and administer a long-term water service contract for multiple purposes with water from Canyon Ferry Reservoir.

30. Hickory Swings Golf Course; Canyon Ferry Unit, P-SMBP; Montana: Consideration to amend contract No. 159E670039 to increase the water supply from 20 to 50 acre-feet.

31. Ainsworth ID; Ainsworth Unit, P-SMBP; Montana: Consideration of a contract with the District for repayment of SOD costs at Merritt Dam.

Completed contract action:

1. (22) Helena Valley ID; Helena Valley Unit, P-SMBP; Montana: Consideration of a contract to allow for delivery of up to 500 acre-feet of water for M&I purposes within the District boundaries. Contract executed on November 9, 2016.

Dated: February 1, 2017.
Roseann Gonzales,
Director, Policy and Administration.

[FR Doc. 2017-06964 Filed 4-6-17; 8:45 am]

BILLING CODE 4332-90-P